DEPARTMENT OF JUSTICE

Drug Enforcement Administration

[Docket No. DEA-709]

Bulk Manufacturer of Controlled Substances Application: Cambridge Isotope Lab; Correction

AGENCY: Drug Enforcement Administration, Justice.

ACTION: Notice of application; correction.

SUMMARY: The Drug Enforcement Administration (DEA) published a document in the Federal Register of September 14, 2020, concerning a notice of application. The document contained a misspelling (Isotype vs. Isotope).

SUPPLEMENTARY INFORMATION:

Correction

In the Federal Register of September 14, 2020, in FR Doc. 2020-20160 (85 FR 56633), on page 56633-56634, correct all instances of the registrant name to read Cambridge Isotope Lab.

William T. McDermott,
Assistant Administrator.

[FR Doc. 2021-05358 Filed 3-15-21; 8:45 am]

BILLING CODE 4410-09-P